ENVIRONMENTAL PROTECTION AGENCY

40 CFR Parts 141 and 142

[FRL-9645-8 ]

Notice of Public Meetings: Arsenic Small Systems Compliance and Alternative Affordability Criteria Working Group

AGENCY: Environmental Protection Agency (EPA).

ACTION: Notice of Public Meetings.

SUMMARY: EPA is holding three meetings of the Arsenic Small Systems Working Group to discuss barriers to the use of arsenic treatment technologies and alternative affordability criteria. The first and second of these meetings will be held via Webcast. The third meeting will be held in Arlington, Virginia. Interested members of the public may participate in the two Webcasts via the Internet and may attend the third meeting in person.

DATES: The Working Group Webcast meetings will be held on March 20, 2012 (11:30 a.m. to 5:30 p.m. Eastern Time (ET)), and March 22, 2012 (1 p.m. to 5 p.m. ET). The third meeting will be held on April 4, 2012, at 9 a.m. ET and conclude on April 5, 2012, at 4 p.m. ET.

ADDRESSES: The first two meetings will be held via the Internet using a Webcast and teleconference. Persons wishing to participate in the Webcasts must register in advance as described in the SUPPLEMENTARY INFORMATION section. Registrants will receive an Internet access link and dial in number upon registration for the Webcast. The third meeting will be held at Potomac Yards South, first floor conference room located at 2777 South Crystal Drive Arlington, VA 22202. A government issued photo ID is required to obtain access to the building.

FOR FURTHER INFORMATION CONTACT: For questions about these specific meetings, contact Russ Perkinson, Office of Ground Water and Drinking Water, U.S. Environmental Protection Agency; telephone (202) 564-4901 or by email to perkinson.russ@epa.govmailto:.

SUPPLEMENTARY INFORMATION: Congressional language contained in the Conference Report (H.R. 2055) accompanying the Consolidated Appropriations Act of 2012 directs the Environmental Protection Agency to convene an Arsenic Small Systems Working Group composed of representatives from States, small publicly owned water systems, local public health officials, drinking water consumers and treatment manufacturers to provide individual input and recommendations on barriers to the use of point-of-use and point-of-entry treatment units, package plant, and modular units, as well as alternative affordability criteria that give extra weight to small, rural, and lower income communities. Based upon input from the working group, the EPA will submit to Congress a report on actions to make alternative compliance methods more accessible to water systems and a report on alternative affordability criteria.

To participate in the Webcasts, you must register in advance at the following Web address: https://www3.gotomeeting.com/register/127876830 for the March 20 Webcast on barriers to the use of arsenic treatment technologies; and https://www3.gotomeeting.com/register/796765574 for the March 22 Webcast on alternative affordability criteria. The number of connections available for the Webcast is limited and will be available on a first come, first served basis. To participate in the April 4 through 5 meeting, you must register in advance no later than 5 p.m. ET on April 2, 2012, by email to perkinson.russ@epa.gov or phone at (202) 564-4901. Seating for the public is limited and will be available on a first come, first served basis for those persons registered. During the Webcasts and meetings, a public comment period will be held for those wishing to speak who have registered in advance. Individual comments should be limited to no more than three minutes and we ask that only one person present the statement on behalf of a group or organization. Individuals wishing to speak during the public comment period or individuals without Internet access seeking alternative means to participate in the Webcasts must contact Russ Perkinson at (202) 564-4901 or by email to perkinson.russ@epa.gov no later than 5 p.m. two business days prior to the meeting. Please specify the date of the meeting(s) to which the request applies.

Special Accommodations

To request special accommodations for individuals with disabilities, please contact Russ Perkinson at (202) 564-4910 or by email to perkinson.russ@epa.gov. Please allow at least five business days prior to the meeting to allow time to process your request.

Dated: March 8, 2012.
Cynthia C. Dougherty,
Director, Office of Ground Water and Drinking Water.

[FR Doc. 2012-6049 Filed 3-14-12; 8:45 am]

BILLING CODE 6560-50-P